NATIONAL AERONAUTICS AND SPACE ADMINISTRATION

[Notice: (10-081)]

NASA Advisory Council; Audit, Finance and Analysis Committee; Meeting.

AGENCY: National Aeronautics and Space Administration.

ACTION: Notice of meeting.

SUMMARY: In accordance with the Federal Advisory Committee Act, Public Law 92-463, as amended, the National Aeronautics and Space Administration announces a meeting of the Audit, Finance and Analysis Committee of the NASA Advisory Council.

DATES: Friday, July 30, 2010, 9 a.m.-12 p.m. (Local Time).

ADDRESSES: NASA Headquarters, 300 E Street, SW., Conference Room 8D48, Washington, DC 20546.

FOR FURTHER INFORMATION CONTACT: Ms. Charlene Williams, Office of the Chief Financial Officer, National Aeronautics and Space Administration Headquarters, Washington, DC 20546, at 202-358-2183, fax: 202-358-4336.

SUPPLEMENTARY INFORMATION: The agenda for the meeting includes the following topics:

• Overview-Strategic Investment Division

• Open Government Initiative

• Federal Advisory Committee Act (FACA) Briefing

The meeting will be open to the public up to the seating capacity of the room. It is imperative that the meeting be held on this date to accommodate the scheduling priorities of the key participants.

Visitors will need to show a valid picture identification such as a driver's license to enter the NASA Headquarters building (West Lobby—Visitor Control Center), and must state that they are attending the Audit, Finance and Analysis meeting in room 8D48, before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to Charlene Williams, Executive Secretary, Audit, Finance and Analysis Committee, FAX: (202) 358-4336, by no later than July 23, 2010. To expedite admittance, attendees with U.S. citizenship can provide identifying information 3 working days in advance by contacting Charlene Williams at 202-358-2183, or fax: (202) 358-4336.

Dated: July 12, 2010.
P. Diane Rausch,
Advisory Committee Management Officer, National Aeronautics and Space Administration.

[FR Doc. 2010-17316 Filed 7-14-10; 8:45 am]

BILLING CODE 7510-13-P